NATIONAL SCIENCE FOUNDATION

Notice of Intent To Seek Approval To Establish an Information Collection

AGENCY: National Science Foundation.

ACTION: Notice and request for comments.

SUMMARY: The National Science Foundation (NSF) is announcing plans to request clearance of this collection. In accordance with the requirement of Section 3506(c)(2)(A) of the Paperwork Reduction Act of 1995 (Pub. L. 104-13), we are providing opportunity for public comment on this action. After obtaining and considering public comment, NSF will prepare the submission requesting that OMB approve clearance of this collection for no longer than three years.

DATES: Written comments on this notice must be received by August 27, 2010 to be assured of consideration. Comments received after that date will be considered to the extent practicable.

FOR FURTHER INFORMATION CONTACT: Suzanne Plimpton, Reports Clearance Officer, National Science Foundation, 4201 Wilson Boulevard, Suite 295, Arlington, Virginia 22230; telephone (703) 292-7556; or send e-mail to splimpto@nsf.gov. Individuals who use a telecommunications device for the deaf (TDD) may call the Federal Information Relay Service (FIRS) at 1-800-877-8339 between 8 a.m. and 8 p.m., Eastern time, Monday through Friday. You may obtain a copy of the data collection instruments and instructions from Ms. Anderson.

SUPPLEMENTARY INFORMATION: Title of Collection: Graduate Research Fellowship Program Follow-up Survey.

OMB Number: 3145-NEW.

Expiration Date of Approval: Not Applicable.

Type of request: New.

Abstract: The purpose of this study is to provide evidence on the impact of the GRPF on individuals' educational decision, career preparations, aspirations and progress, as well as professional productivity. This includes the study design and data collection as well as subsequent analysis and report writing. As part of NSF's commitment to graduate student education in the U.S., the GRFP seeks to promote and maintain advanced training in science, technology, engineering, and mathematics (STEM) field by annually awarding roughly 1,000 fellowships to graduate student in research-based programs. As the first program evaluation since 2002, the GRFP evaluation comes on the heels of increased funding by NSF to supporting additional fellowship awards.

NSF contracts with the National Opinion Research Center (NORC) at the University of Chicago to design, implement, and assess a study that will address relevant procedures and components of the GRFP in regards to the application and award process and support for Fellows and sponsoring institutions with an aim towards measuring and increasing the program's effectiveness.

There are four goals of the GRFP evaluation. The first goal is to maintain a high quality evaluation through consultation with an advisory group of national experts. The second goal is to assess impacts of the GRFP on graduate school experiences through a follow-up study of GRFP award recipients and other applicants. The third goal is to assess impacts of the GRFP on career and professional outcomes through analysis of GRFP participants and comparable national populations. The fourth goal is to assess the benefits of the GRFP on institutions that enroll GRFP Fellows. The evaluation is designed to address research questions that explore the influences of the GRFP on the following broad sets of variables:

• Educational decisions, experiences, and graduate degree attainment of STEM graduate students.

• Career preparation and aspirations.

• Career activities, progress, and job characteristics following graduate school.

• Professional productivity.

• Workforce participation and career outcomes.

• Graduate school institutions and student recruitment at GRFP-sponsoring institutions.

• Faculty attitudes at GRFP-sponsoring institutions.

• Diversity of students participating in STEM fields at GRFP-sponsoring institutions.

This survey would address two separate components of the planned GRPF evaluation. First, this component will assess the influence of GRFP awards on recipients' graduate school experience and outcomes, which includes program of study and institution attended, professional productivity (e.g., publishes papers, conference presentations, etc.) during graduate schools and career aspirations. Second, the survey will evaluate the impact of participation in the in the GRPF on subsequent career options, progress and contributions to respondents' professional fields. This will be conducted as a web-based survey.

Estimate of Burden: Public reporting burden for this collection of information is estimated to average 30 minutes for current graduate students and 40 minutes per graduates.

Respondents: Individuals.

Estimated Number of Responses per Form: 2,826 graduate students; 6,429 graduates.

Estimated Total Annual Burden on Respondents: 5,699 hours (2,826 graduate student respondents at 30 minutes per response = 1,413 hours + 6,429 graduate respondents at 40 minutes per response = 4,286 hours).

Frequency of Response: One time.

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; (d) ways to minimize the burden of the collection of information on those who are to respond, including through the use of appropriate automated, electronic, mechanical or other technological collection techniques or other forms of information technology.

Dated: June 22, 2010.
Suzanne H. Plimpton,
Reports Clearance Officer, National Science Foundation.

[FR Doc. 2010-15569 Filed 6-25-10; 8:45 am]

BILLING CODE 7555-01-P